DEPARTMENT OF THE INTERIOR

Bureau of Land Management

[UT-110-1320-EL, UTU 081895]

Notice of Intent To Prepare an Environmental Impact Statement and To Initiate Scoping for a Federal Coal Lease Application Filed by Alton Coal Development LLC, Utah

AGENCY: Bureau of Land Management, Interior.

ACTION: Notice of Intent to Prepare an Environmental Impact Statement (EIS) and to initiate scoping for a Federal Coal Lease Application (LBA) Fielded by Alton Coal Development LLC, near Alton, Utah.

SUMMARY: Pursuant to Section 102 (2) (C) of the National Environmental Policy Act (NEPA) of 1969, as amended, the Bureau of Land Management (BLM), Kanab Field Office announces its intent to prepare an EIS and is soliciting public comments regarding issues and resource information on the potential impacts of a proposal to primarily surface mine Federal coal in the vicinity of Alton, Utah as requested by Alton coal Development LLC (Alton LLC) in LBA case number UTU 081895 and in conformance with the provisions of 43 Code of Federal Regulations (CFR) 3425.1.

DATES: This notice initiates the public scoping process. Comments and resource information should be submitted within 90 days of publication of this notice in the Federal Register. The BLM will host public scoping meetings in the following locations: Alton, Kanab, Panguitch, Cedar City, and Salt Lake City, Utah. Times and dates of these meetings will be announced through the Utah BLM Web site (http://www.ut.blm.gov), press releases, local newspapers, and other media. At the scoping meetings, the public is invited to submit comments and resource information, and identify issues or concerns to be considered in the LBA process. The BLM will announce public meetings and other opportunities to submit comments on this project at least 15 days prior to the event.

ADDRESSES: Please submit written comments or concerns to the BLM Kanab Field Office, Attn: Keith Rigtrup, 318 North 100 East, Kanab, Utah 84741. Written comments or resource information may also be hand-delivered to the BLM Kanab Field Office or sent by facsimile to the attention of Keith Rigtrup at 435-644-4620. Comments may be sent electronically to UT_Kanab_Altoncoal@blm.gov; please put Alton Coal Lease/Keith Rigtrup in the subject line. Members of the public may examine documents pertinent to this proposal by visiting the Kanab Field Office during its business hours (7:45 a.m. to 4:30 p.m.), Monday through Friday, except holidays.

FOR FURTHER INFORMATION CONTACT: Keith Rigtrup, BLM Kanab Field Office, 318 North 100 East, Kanab, Utah 84741 or by telephone at 435-644-4600.

SUPPLEMENTARY INFORMATION: An application to lease Federal coal near the Town of Alton, Utah was filed with BLM on November 12, 2004, by Alton LLC. The Utah State Office Solid Minerals Branch reviewed this lease application, delineated the boundaries of the tract, and recommended that the BLM process it. This LBA is called the Alton Tract and is currently delineated to include approximately 46 million tons of in-place Federal coal underlying the following lands in Kane County, Utah:

T. 39 S., R. 5 W., SLM, Utah

sec. 7, SE¼SW¼, S½SE¼;

sec. 18, lots 3 and 4, E½, E½W½;

sec. 19, lots 1 through 4, NE¼, E½W½, N½SE¼, SE¼SE¼;

sec. 20, lots 4 and 5, N½SW¼;

sec. 30, lots 2 through 4, SW¼NE¼, SE¼NW¼, E½SW¼, W½SE¼;

sec. 31, lots 1 through 3, NE¼, E½NW¼, NE¼SW¼, N½SE¼;

T. 39 S., R. 6 W., SLM, Utah

sec. 12, SW¼, W½SE¼;

sec. 13, NW¼NE¼, N½NW¼, SE¼NW¼, SE¼;

sec. 24, NE¼, N½NW¼, SE¼NW¼, E½SW¼, N½SE¼, SE¼SE¼;

sec. 25, E½NE¼, SW¼NE¼, SE¼.

Containing 3,581.27 acres more or less.

The Office of Surface Mining (OSM) will be a cooperating agency in the preparation of the EIS.

If the Alton Tract is leased, the OSM is the Federal agency that would prepare the documentation for the Assistant Secretary, Land and Minerals Management decision to approve, approve with conditions, or disapprove the Mining Plan. The BLM will provide interested parties the opportunity to submit comments or relevant information or both. This information will help BLM identify issues to be considered in preparing a draft EIS for the Alton Tract. Specific issues that have been identified at this time include: potential impacts in the vicinity of the tract to city and county facilities and occupied residences; livestock grazing, big game herds and hunting, sage grouse, listed threatened and endangered species, alluvial valley floors; potential health issues related to blasting operations conducted by the mines to remove overburden and coal; site-specific and cumulative impacts on air and water quantity/quality; and the need to consider the cumulative impacts of coal leasing decisions combined with other existing and proposed development in the affected areas.

The area included within this lease application was part of a larger area analyzed in response to a petition filed under Section 522 of the Surface Mining Control and Reclamation Act of 1977 to have federal lands declared unsuitable for all types of surface coal mining operations. The petition sought to have the lands declared unsuitable for coal mining because of impacts to air quality, visual resources, fish and wildlife resources, geologic features within Bryce Canyon National Park, and hydrology. The petitioners also questioned whether the lands could be reclaimed after mining. After an extensive evaluation, which included input from the public and a combined petition evaluation and environmental impact statement, the Secretary of the Interior, on December 16, 1980, determined that the coal lands included in this lease application were not unsuitable for surface coal mining operations. The Secretary's decision is documented in a secretarial decision document entitled, “Petition to Designate Certain Federal Lands in Southern Utah Unsuitable for Surface Coal Mining” (OSM Reference No: 79-5-001).

Alton LLC has applied for a permit with the State of Utah to mine fee coal on private lands adjacent to this federal tract. That permit application is in progress and this federal tract, if approved, would be a continuation of that mining operation.

Your response is important and will be considered in the EIS process. If you respond, the BLM will keep you informed of the availability of environmental documents that address impacts that might occur from this proposal.

Please note that comments and information submitted regarding this project including names, electronic mail addresses, and street addresses of the respondents will be available for public review and disclosure at the Kanab Field Office.

If you comment as a private individual in your personal capacity, you may ask us to withhold personal identifying information from the public. You must do so prominently in writing at the beginning of your comments and must tell us precisely what you want us to withhold. You also must explain in detail why releasing that personal identifying information to the public would constitute a clearly unwarranted invasion of privacy. Individuals may request confidentiality. General assertions that are not supported by specific facts will not meet that burden.

We will withhold personal identifying information from release to the public in response to your request only where, in our judgment, you present sufficient factual justification for our doing so under current laws, regulations, and court decisions. Typically, notwithstanding your request, in all but the most exceptional circumstances, we will release to the public all of the personal identifying information that you submit.

If you comment as or on behalf of an organization or business, we will release your comments to the public in their entirety, including all personal identifying information. We will not consider a request from an organization or business, or anyone commenting on behalf of an organization or business, that we withhold any personal identifying information from release to the public.

Rex Smart,
Kanab Field Manager.

[FR Doc. E6-20044 Filed 11-27-06; 8:45 am]

BILLING CODE 4310-$$-P